DEPARTMENT OF ENERGY

Notice of Orders Issued Under Section 3 of the Natural Gas Act During June 2020

| FE Docket Nos.
FUEL MARKET LP | 20-53-NG
BP CANADA ENERGY MARKETING CORP | 20-55-NG
SABINE PASS LIQUEFACTION, LLC | 20-28-LNG
CHEVRON U.S.A. INC | 20-54-LNG
SEMPRA MARKETING LNG, LLC | 20-52-LNG
ARM ENERGY MANAGEMENT LLC | 20-56-NG
SOUTHWEST ENERGY, L.P | 20-51-NG
JUPITER RESOURCES INC | 20-57-NG
TRAFIGURA TRADING LLC | 20-61-NG; 18-110-NG
EQUINOR NATURAL GAS LLC | 20-65-NG
ENERGY SOURCE NATURAL GAS INC | 20-58-NG
NEW BRUNSWICK ENERGY MARKETING CORP | 20-60-NG
ETC MARKETING, LTD | 20-63-NG
PRODUCCIÓN DE ENERGÍA MEXICANA, S. DE R.L. DE C.V | 20-62-NG
J. ARON & COMPANY LLC | 20-64-NG; 18-77-NG

AGENCY: Office of Fossil Energy, Department of Energy.

ACTION: Notice of orders.

SUMMARY: The Office of Fossil Energy (FE) of the Department of Energy gives notice that during June 2020, it issued orders granting authority to import and export natural gas, to import and export liquefied natural gas (LNG), and vacating prior authorization. These orders are summarized in the attached appendix and may be found on the FE website at https://www.energy.gov/fe/listing-doefe-authorizationsorders-issued-2020. They are also available for inspection and copying in the U.S. Department of Energy (FE-34), Division of Natural Gas Regulation, Office of Regulation, Analysis, and Engagement, Office of Fossil Energy, Docket Room 3E-033, Forrestal Building, 1000 Independence Avenue SW, Washington, DC 20585, (202) 586-9387. The Docket Room is open between the hours of 8:00 a.m. and 4:30 p.m., Monday through Friday, except Federal holidays.

Signed in Washington, DC, on July 31, 2020.
Amy Sweeney,
Director, Office of Regulation, Analysis, and Engagement, Office of Oil and Natural Gas.

APPENDIX

DOE/FE Orders Granting Import/Export Authorizations
4543 | 06/05/20 | 20-53-NG | Fuel Market LP | Order 4543 granting blanket authority to export natural gas to Mexico, and to export LNG to Mexico by truck.
4544 | 06/05/20 | 20-55-NG | BP Canada Energy Marketing Corp | Order 4544 granting blanket authority to import/export natural gas from/to Canada.
4545 | 06/04/20 | 20-28-LNG | Sabine Pass Liquefaction, LLC | Order 4545 granting blanket authority to export previously imported LNG by vessel to Free Trade Agreement Nations and Non-Free Trade Agreement Nations.
4546 | 06/05/20 | 20-54-LNG | Chevron U.S.A. Inc | Order 4546 granting blanket authority to import LNG from various international sources by vessel.
4547 | 06/05/20 | 20-52-LNG | Sempra LNG Marketing, LLC | Order 4547 granting blanket authority to import LNG from various international sources by vessel.
4548 | 06/16/20 | 20-56-NG | ARM Energy Management LLC | Order 4548 granting blanket authority to export natural gas to Canada/Mexico.
4549 | 06/16/20 | 20-51-NG | Southwest Energy, L.P | Order 4549 granting blanket authority to import/export natural gas from/to Canada/Mexico.
4550 | 06/16/20 | 20-57-NG | Jupiter Resources Inc | Order 4550 granting blanket authority to import natural gas from Canada.
4551; 4238-A | 06/16/20 | 20-61-NG; 18-110-NG | Trafigura Trading LLC | Order 4551 granting blanket authority to import/export natural gas from/to Canada/Mexico, and vacating prior authority (Order 4238).
4552 | 06/16/20 | 20-65-NG | Equinor Natural Gas LLC | Order 4552 granting blanket authority to import/export natural gas from/to Canada/Mexico, and to import LNG from various international sources by vessel.
4553 | 06/22/20 | 20-58-NG | Energy Source Natural Gas, Inc | Order 4553 granting blanket authority to import/export natural gas from/to Canada.
4554 | 06/22/20 | 20-60-NG | New Brunswick Energy Marketing Corporation | Order 4554 granting blanket authority to import/export natural gas from/to Canada.
4555 | 06/22/20 | 20-63-NG | ETC Marketing, Ltd | Order 4555 granting blanket authority to import/export natural gas from/to Mexico.
4556 | 06/22/20 | 20-62-NG | Producción de Energía Mexicana, S. de R.L. de C.V | Order 4556 granting blanket authority to export natural gas to Mexico.
4557; 4211-A | 06/24/20 | 20-64-NG; 18-77-NG | J. Aron & Company LLC | Order 4557 granting blanket authority to import/export natural gas from/to Canada/Mexico, and vacating prior authority (Order 4211).

[FR Doc. 2020-17068 Filed 8-4-20; 8:45 am]

BILLING CODE 6450-01-P